DEPARTMENT OF DEFENSE

Department of the Air Force

Notice of 2022 Public Interface Control Working Group for NAVSTAR GPS Public Documents

AGENCY: Department of The Air Force, Department of Defense.

ACTION: Meeting notice.

SUMMARY: This notice informs the public that the Space Systems Command, Military Communications & Positioning, Navigation, Timing Directorate will host the 2022 Public Interface Control Working Group and Open Public Forum on September 28, 2022 for the following NAVSTAR GPS public documents: IS-GPS-200 (Navigation User Interfaces), IS-GPS-705 (User Segment L5 Interfaces), IS-GPS-800 (User Segment L1C Interface), and ICD-GPS-870 (Control Segment (OCX) to User Support Interface). Additional logistical details can be found below.

DATES: Open to the public Wednesday, September 28, 2022 from 8:30 a.m. to 4:00 p.m. (Pacific Time).

ADDRESSES: This virtual meeting can be accessed via the following dial-in numbers and links: Primary Dial In: +1 (571) 200-1700, Meeting ID: 161 996 3667, Passcode: 420440. Primary Screen Share URL: https://saicwebconferencing.zoomgov.com/j/1619963667.

Backup Dial In: +1 (410) 874-6740, Meeting ID: 326 120 515#

Backup Screen Share URL: https://dod.teams.microsoft.us/l/meetup-join/19%3adod%3ameeting_c4dd5c38d0ae429191db25a307db6d5e%40thread.v2/0?context=%7b%22Tid%22%3a%228331b18d-2d87-48ef-a35f-ac8818ebf9b4%22%2c%22Oid%22%3a%2239eaebff-b71b-4aad-8a01-55fa5d59953e%22%7d

FOR FURTHER INFORMATION CONTACT: Captain Andrew Sweeten, telephone (310) 653-9603, Mr. Daniel Godwin, telephone (310) 653-3640; Los Angeles AFB, El Segundo, 90009; or Email: SMCGPER@us.af.mil.

SUPPLEMENTARY INFORMATION: The purpose of this meeting is to update the public on proposed GPS public document changes, collect issues/comments for analysis and adjudicate subject comments for possible incorporation into future GPS public document revisions. The 2022 Public Interface Control Working Group and Open Forum are open to the general public.

Comments to the proposed changes will be collected, catalogued, and adjudicated for potential inclusion. If accepted, these changes will be processed through the government change management process for IS-GPS-200, IS-GPS-705, IS-GPS-800, and ICD-GPS-870. All comments must be submitted in a Comments Resolution Matrix. This form along with the proposed change notices, public document baseline documents and the official meeting notice are posted at: https://www.gps.gov/technical/icwg/meetings/2022.

Please submit comments to the Space Systems Command GPS Requirements Section (SSC/CGEPR) workflow at SMCGPER@us.af.mil by August 25, 2022. Special topics may also be considered for the Public Open Forum. If you wish to present a special topic, please submit your topic title, briefer name and organization by August 25, 2022. Any briefing materials will be due no later than September 21, 2022.

For those who would like to attend and participate, we request that you register no later than August 25, 2022. Please send the registration information to SMCGPER@us.af.mil, providing your name, organization, telephone number, email address, and country of citizenship. Meeting is being held virtually due to unpredictable restrictions associated with the ongoing COVID-19 pandemic. Backup dial-in & screen share website will only be used in case of primary system technical difficulties.

Adriane Paris,
Air Force Federal Register Liaison Officer.

[FR Doc. 2022-15083 Filed 7-13-22; 8:45 am]

BILLING CODE 5001-10-P